SMALL BUSINESS ADMINISTRATION

Public Federal Regulatory Enforcement Fairness Hearing, Region II Regulatory Fairness Board

The U.S. Small Business Administration (SBA) Region II Regulatory Fairness Board and the SBA Office of the National Ombudsman will hold a public hearing on Wednesday, October 26, 2005, at 9 a.m. The meeting will take place at the New Jersey District Office, 2 Gateway Center, 15th Floor, Newark, NJ to receive comments and testimony from small business owners, small government entities, and small non-profit organizations concerning regulatory enforcement and compliance actions taken by Federal agencies.

Anyone wishing to attend or to make a presentation must contact Claudia Yarborough, in writing or by fax, in order to be put on the agenda. Claudia Yarborough, Paralegal Specialist, SBA, New Jersey District Office, 2 Gateway Center, 15th Floor, New Jersey, NJ 07102-5003, phone (973) 645-3974, fax (202) 481-0830, e-mail: Claudia.Yarborough@sba.gov.

For more information, see our Web site at http://www.sba.gov/ombudsman.

Matthew K. Becker,
Committee Management Officer.

[FR Doc. 05-20665 Filed 10-14-05; 8:45am]

BILLING CODE 8025-01-M